ENVIRONMENTAL PROTECTION AGENCY

[ER-FRL-6662-7]

Environmental Impact Statements and Regulations; Availability of EPA Comments

Availability of EPA comments prepared pursuant to the Environmental Review Process (ERP), under section 309 of the Clean Air Act and Section 102(2)(c) of the National Environmental Policy Act, as amended. Requests for copies of EPA comments can be directed to the Office of Federal Activities at 202-564-7167.

An explanation of the ratings assigned to draft environmental impact statements (EISs) was published in the Federal Register dated April 1, 2005 (70 FR 16815).

Draft EISs

EIS No. 20050011, ERP No. D-FAA-D40328-VA, Washington Dulles International Airport Project, Acquisition of Land, Construction and Operation, IAD 2004 Airport Layout Plan (ALP), Dulles, VA

Summary: EPA expressed concern due to wetland and stream impacts associated with the proposed action, and requested that wetland impacts associated with the clear zones be included in the mitigation plan. EPA also requested that the wetland avoidance alternative (Alternative 5) should be carried forward for detail study to more closely track the alternatives analysis requirements under Section 404 of the Clean Water Act.

Rating EC2

EIS No. 20050033, ERP No. D-IBR-K60035-NV, Humboldt Project Conveyance, Transferring 83, 530 Acres from Federal Ownership to the Pershing County Water Conservation District (PCWCD), Pershing and Lander Counties, NV.

Summary: EPA expressed environmental concerns about potential impacts to water quality, and requested that the Final EIS provide additional information to support the cumulative impacts analysis, and further discussion of tribal consultation efforts and impacts to Indian sacred sites.

Rating EC2

EIS No. 20050036, ERP No. D-AFS-K65278-CA, Burlington Ridge Trails Project, To Eliminate, Reconstruct/or Reroute Unsound Trail Sections, Tahoe National Forest, Yuba River Ranger District, Camptonville, Nevada County, NV.

Summary: EPA has no objections to the proposed action, but requested additional monitoring after the project is implemented to confirm wildlife is not being impacted.

Rating LO

EIS No. 20050056, ERP No. D-FHW-G40184-TX, Trinity Parkway Project, Construction of Limited Access Toll Facility from IH-35 E/TX-183 to US-175/TX-310, U.S. Army COE Section 10 and 404 Permits, Dallas County, TX.

Summary: EPA has no objections to the proposed project.

Rating LO

EIS No. 20050080, ERP No. D-FRC-G03025-TX, Ingleside Energy Center Liquefied Natural Gas (LNG) Import Terminal and San Patricio Pipeline Natural Gas Pipeline, Authorization to Construct, Install and Operate, San Patricio and Nueces Counties, TX.

Summary: EPA had no objections to the selection of the proposed alternative.

Rating LO

Final EISs

EIS No. 20040581, ERP No. F-DOE-K08029-00, Imperial-Mexicali 230-kV Transmission Lines, Construct a Double-Circuit 230-kV Transmission Line, Presidential Permit and Right-of-Way Grants, Imperial Valley Substation to Calexico at the U.S.-Mexico Border, Imperial County, CA and US.-Mexico Border.

Summary: EPA has no objection to the proposed action, but recommends that DOE continue working with all stakeholders to support and encourage use of off-site mitigation measures as a valuable means to address the limitations in modeling ozone impacts, and to ensure that there would be no net increase of air pollution in the Imperial County region.

EIS No. 20050079, ERP No. F-AFS-K65273-CA, Cottonwood Fire Vegetation Management Project, Control Vegetation that is Competing with Conifer Seedlings, Sierraville Ranger District, Tahoe National Forest, Sierra County, CA.

Summary: The final EIS addressed EPA's comments providing additional information on the final decisions; no formal comment letter was sent to the preparing agency.

EIS No. 20050097, ERP No. F-FRC-G03023-TX, Cheniere Corpus Christi Liquefied Natural Gas (LNG) Project, To Provide Facilities for the Importation, Storage and Vaporization of Liquefied Natural Gas, Nueces and San Patricio Counties, TX.

Summary: EPA expressed concerns about the potential introduction of invasive species from increased foreign vessel traffic.

EIS No. 20050106, ERP No. F-AFS-J65018-MT, Sheep Creek Salvage Project, Moving Current Resource Conditions and Trends Toward Desired Future Conditions, Beaverhead-Deerlodge National Forest, Beaverhead County, MT.

Summary: The final EIS addressed EPA's request for additional sediment modeling and additional measures to mitigate sediment delivery to streams. EPA reiterates the need to monitor actual water quality effects from the salvage harvests, and if necessary, develop additional mitigation measures to promote consistency with TMDL development and to further improve Trail Creek.

EIS No. 20050112, ERP No. F-AFS-J65397-WY, Woodrock Project, Proposal for Timber Sale, Travel Management and Watershed Restoration, Implementation, Bighorn National Forest, Tongue Ranger District, Sheridan County, WY.

Summary: EPA does not expect substantial impacts form the proposed action. However, EPA recommends focusing harvest activities on Forest-private lands interface areas both to protect property and to minimize impacts in important wildlife habitat areas.

EIS No. 20050129, ERP No. F-AFS-J65431-UT, Duck Creek Fuels Treatment Analysis, To Reduce Fuels, Enhance Fire-Tolerant Vegetation and Provide Fuel Breaks, Dixie National Forest, Cedard City Ranger District, Kane County, UT.

Summary: EPA continues to express concerns about impacts to water quality, fish and wildlife habitats, soils and old growth forest resources.

Dated: April 19, 2005.
Robert W. Hargrove,
Director, NEPA Compliance Division, Office of Federal Activities.

[FR Doc. 05-8115 Filed 4-21-05; 8:45 am]

BILLING CODE 6560-50-P